NUCLEAR REGULATORY COMMISSION

[Docket Nos. STN 50-454, STN 50-455, STN 50-456, STN 50-457]

Exelon Generation Company, LLC; Notice of Withdrawal of Application for Amendment to Facility Operating License

The U.S. Nuclear Regulatory Commission (the Commission) has granted the request of Exelon Generation Company, LLC (the licensee) to withdraw its March 19, 2002, application as supplemented by their letters dated November 26, 2002, and March 13, 2003, for proposed amendment to Facility Operating License Nos. NPF-37 and NPF-66 for the Byron Station, Units 1 and 2, located in Ogle County, Illinois, and Facility Operating License Nos. NPF-72 and NPF-77 for the Braidwood Station, Units 1 and 2, located in Will County, Illinois.

The proposed amendment would have revised the method of controlling the fuel cycle unfavorable exposure time (UET) related to an anticipated transient without scram (ATWS) event. Specifically, the proposed change would have deleted TS 5.6.5.b.5 and appropriately would have revised the discussion of an ATWS event in the Updated Final Safety Analysis Report, Section 15.8, “Anticipated Transient Without Scram.”

The Commission had previously issued a Notice of Consideration of Issuance of Amendment published in the Federal Register on June 25, 2002, (67 FR 42825). However, by letter dated March 13, 2003, the licensee withdrew the proposed change.

For further details with respect to this action, see the application for amendment dated March 19, 2002, as supplemented by their letter November 26, 2002, and the licensee's letter dated March 13, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 19th day of May 2003.
For the Nuclear Regulatory Commission.
Mahesh Chawla,
Project Manager, Section 2, Project Directorate 3, Division of Licensing Project Management, Office of Nuclear Reactor Regulation.

[FR Doc. 03-13145 Filed 5-23-03; 8:45 am]

BILLING CODE 7590-01-P